NATIONAL AERONAUTICS AND SPACE ADMINISTRATION

[Notice 05-053]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: March 17, 2005.

FOR FURTHER INFORMATION CONTACT: Linda B. Blackburn, Patent Counsel, Langley Research Center, Mail Code 141, Hampton, VA 23681-2199; telephone (757) 864-9260; fax (757) 864-9190.

NASA Case No. LAR-16001-1: Catalyst for Treatment and Control of Post-Combustion Emissions;

NASA Case No. LAR-16566-1: Method and Apparatus for Loss of Control Inhibitor Systems;

NASA Case No. LAR 16176-2: Space Environmentally Durable Polyimides and Copolyimides;

NASA Case No. LAR-16532-1: Low-Noise Fan Exit Guide Vanes;

NASA Case No. LAR-16543-1: Electrospun Electroactive Polymers;

NASA Case No. LAR-16323-1: System and Method for Determining Gas Optical Density Changes in a Non-Linear Measurement Regime.

Dated: March 10, 2005.
Keith T. Sefton,
Deputy General Counsel, Administration and Management.

[FR Doc. 05-5249 Filed 3-16-05; 8:45 am]

BILLING CODE 7510-13-P